ENVIRONMENTAL PROTECTION AGENCY

40 CFR Part 122

[EPA-HQ-OW-2016-0376; FRL-9950-07-OW]

Public Notification for Combined Sewer Overflows in the Great Lakes; Public Listening Session; Request for Stakeholder Input

AGENCY: Environmental Protection Agency (EPA).

ACTION: Request for stakeholder input.

SUMMARY: The Environmental Protection Agency (EPA) is announcing plans to hold a public “listening session” on September 14, 2016 in Chicago, Illinois to obtain information from the public to help inform development of a new regulation establishing public notification requirements for combined sewer overflow discharges in the Great Lakes. This rulemaking is in response to new requirements included with the 2016 appropriations. EPA is requesting input from the public regarding potential approaches for these new public notification requirements for combined sewer overflow discharges in the Great Lakes through participation in the public listening session and by submitting information in writing at the listening sessions or to the agency directly through email, fax, or mail. The agency is undertaking this outreach to help it shape a future regulatory proposal intended to provide the affected public with information that will help better protect public health.

DATES: The session will be held on September 14, 2016. Comments must be received on or before September 23, 2016.

ADDRESSES: The public listening session will be held at the Environmental Protection Agency Region 5 Office (Lake Erie Room, Floor 12), 77 West Jackson Boulevard, Chicago, IL 60604-3507. Submit your comments, identified by Docket ID No. EPA-HQ-OW-2016-0378, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets. For details on the public listening session see SUPPLEMENTAL INFORMATION.

FOR FURTHER INFORMATION CONTACT: Lisa Biddle, Water Permits Division, Office of Water (4203M), Environmental Protection Agency, 1200 Pennsylvania Avenue NW., Washington, DC 20460; telephone number: 202-566-0350; fax number: 202-564-6392; email address: biddle.lisa@epa.gov. Also see the following Web site for additional information regarding the rulemaking: https://www.epa.gov/npdes/combined-sewer-overflows-great-lakes-basin.

SUPPLEMENTARY INFORMATION:

I. General Information

A. Public Listening Session

EPA will hold an informal public listening session to afford an opportunity for the public to provide input on a regulatory action that EPA is considering to establish public notification requirements for combined sewer overflow discharges in the Great Lakes. Brief oral comments (three minutes or less) and written statements will be accepted at the session. The listening session will be held on September 14, 2016 at 10 a.m. at the Environmental Protection Agency Region 5 Office (Lake Erie Room, Floor 12), 77 West Jackson Boulevard, Chicago, IL 60604-3507. The listening session will continue until all speakers in attendance have had a chance to provide comments or 3 p.m., whichever comes first. If time allows after all comments have been heard, a broader discussion may take place regarding topics identified under Section III, Input on Public Notice Considerations.

B. Additional Information and Public Meeting Registration

Prior to the public meeting date, EPA will post any relevant materials to the following Web site: https://www.epa.gov/npdes/combined-sewer-overflows-great-lakes-basin. Information posted to the Web site will include any handouts that may be provided at the meeting as well as a web link that participants may use to register for the public meeting in advance. Advanced registration is not required but is requested so that EPA can ensure there is sufficient space and time allotted for those who wish to participate.

II. Background

The Environmental Protection Agency (EPA) will be proposing a rule to establish public notification requirements for combined sewer overflows (CSOs) to the Great Lakes, as required by Section 425 of the Consolidated Appropriations Act of 2016 (Pub. L. 114-113) (hereafter, referred to as “Section 425”). Section 425 requires EPA to work with the Great Lakes states to create these public notice requirements, and EPA is also seeking public input in the development of these requirements.

Combined Sewer Overflows From Municipal Wastewater Collection Systems

Municipal wastewater collection systems collect domestic sewage and other wastewater from homes and other buildings and convey it to wastewater treatment plants for proper treatment and disposal. The collection and treatment of municipal sewage and wastewater is vital to the public health in our cities and towns. In the United States, municipalities historically have used two major types of sewer systems. Many municipalities collect domestic sewage in a sanitary sewer system and convey the sewage to a publicly owned treatment works (POTW) for treatment. These municipalities also have separate sewer systems to collect surface drainage and stormwater, known as “municipal separate storm sewer systems” or “MS4s.” Separate sanitary sewer systems are not designed to collect large amounts of runoff from rain or snowmelt or provide widespread surface drainage, although they typically are built with some allowance for higher flows that occur during storm events to handle minor amounts of stormwater or groundwater that enter the system.

The other type, combined sewer systems, is designed to collect both sanitary sewage and stormwater runoff in a single-pipe system. This type of sewer system provides the primary means of surface drainage carrying rain and snowmelt away from streets, roofs, and other impervious surfaces. Combined sewer systems were among the earliest sewer systems constructed in the United States and were built until the first part of the 20th century.

A combined sewer system collects rainwater and snowmelt runoff, domestic sewage, and industrial wastewater into one pipe. Under normal conditions, it transports all of the wastewater it collects to a sewage treatment plant for treatment. The volume of wastewater can sometimes exceed the capacity of the combined sewer system or treatment plant (e.g., during heavy rainfall events or snowmelt). When this occurs, these systems are designed to divert some of the combined sewage prior to reaching the treatment plant and to discharge untreated or partially treated stormwater and wastewater directly to nearby streams, rivers and other water bodies. These discharge events are referred to as combined sewer overflows or CSOs.

CSOs contain untreated or partially treated human and industrial waste, toxic materials, and debris as well as stormwater. CSO events can be detrimental to human health and the environment because they introduce pathogens, bacteria, and other pollutants to receiving waters, causing beach closures, contaminating drinking water supplies and impairing water quality. Fish and other aquatic populations also can be impacted by the depleted oxygen levels that can be caused by CSOs.

Combined sewer systems serve a total population of about 40 million people nationwide. Most communities with CSOs are located in the Northeast and Great Lakes regions, particularly in Illinois, Indiana, Maine, Michigan, New York, Ohio, Pennsylvania, and West Virginia. Although large cities like New York, Philadelphia, and Atlanta have combined sewer systems, most communities with combined sewer systems have fewer than 10,000 people. Most combined sewer systems have multiple CSO discharge locations or outfalls, with some larger communities with combined systems having hundreds of CSO outfalls.

Combined Sewer Overflows in the Great Lakes

There are 184 communities with combined sewer systems serving communities in the United States portion of the Great Lakes and the Great Lakes System (“Great Lakes Basin”).¹ This includes communities in the states of New York, Pennsylvania, Ohio, Michigan, Illinois, Indiana, and Wisconsin. EPA recently summarized available information on the occurrence and volume of discharges from CSOs in the Great Lakes Basin during 2014 (see Report to Congress: Combined Sewers in the Great Lakes (EPA 833-R-16-006)). As summarized in this report, seven states reported 1,482 events where untreated combined stormwater, industrial wastewater, and domestic sewage was discharged from CSOs in the Great Lakes Basin in 2014 and an additional 187 CSO events where partially treated wastewater were discharged. Additional information regarding CSOs in the Great Lakes Basin, including the Report to Congress, is available at https://www.epa.gov/npdes/combined-sewer-overflows-great-lakes-basin.

¹ Section 425 specifies in Section 425(a)(4) that the term “Great Lakes” means “any of the waters as defined in the Section 118(a)(3) of the Federal Water Pollution Control Act (33 U.S.C. 1292).” This, therefore, includes Section 118(a)(3)(B), which defines “Great Lakes” as “Lake Ontario, Lake Erie, Lake Huron (including Lake St. Clair), Lake Michigan, and Lake Superior, and the connecting channels (Saint Mary's River, Saint Clair River, Detroit River, Niagara River, and Saint Lawrence River to the Canadian Border);” and Section 118(a)(3)(C), which defines “Great Lakes System” as “all the streams, rivers, lakes, and other bodies of water within the drainage basin of the Great Lakes.” Collectively, EPA is referring to the Great Lakes and the Great Lakes System as the “Great Lakes Basin.”

Clean Water Act Regulations That Apply to Combined Sewer Systems

The Clean Water Act establishes national goals and requirements for maintaining and restoring the nation's waters. CSO discharges are subject to the technology-based and water quality-based requirements of the Clean Water Act under National Pollutant Discharge Elimination System (NPDES) permits. Technology-based effluent limitations for CSO discharges are based on the application of best available technology economically achievable (BAT) for toxic and nonconventional pollutants and best conventional pollutant control technology (BCT) for conventional pollutants. BAT and BCT effluent limitations for CSO discharges are determined based on “best professional judgment.” CSO discharges are not subject to permit limits based on secondary treatment requirements that are applicable to POTWs. Permits authorizing discharges from CSO outfalls must include more stringent water quality-based requirements, when necessary, to meet water quality standards (WQS).

CSO Control Policy

EPA issued the CSO Control Policy on April 19, 1994 (59 FR 18688). The CSO Control Policy “represents a comprehensive national strategy to ensure that municipalities, permitting authorities, WQS authorities, and the public engage in a comprehensive and coordinative effort to achieve cost-effective CSO controls that ultimately meet appropriate health and environmental objectives.” The policy assigns primary responsibility for implementation and enforcement to NPDES permitting authorities and WQS authorities.

The policy also established objectives for CSO communities to: 1) Implement the Nine Minimum Controls and submit documentation on their implementation; and 2) Develop and implement a long-term CSO control plan (LTCP) to ultimately result in compliance with the Clean Water Act, including water quality-based requirements. In describing NPDES permit requirements for CSO discharges, the CSO Control Policy states that the BAT/BCT technology-based effluent limitations “at a minimum include[s] the nine minimum controls.” 59 FR 18696. One of the nine minimum controls is “Public notification to ensure that the public receives adequate notification of CSO occurrences and CSO impacts.” At a minimum, the technology based effluent limitations applicable to CSOs include the nine minimum controls.

Wet Weather Water Quality Act

In December 2000, as part of the Consolidated Appropriations Act for Fiscal Year 2001 (Pub. L. 106-554), Congress amended the Clean Water Act by adding Section 402(q). This amendment is commonly referred to as the “Wet Weather Water Quality Act of 2000.” It requires that each permit, order, or decree issued pursuant to the Clean Water Act after the date of enactment for a discharge from a municipal combined sewer system shall conform to the CSO Control Policy.

Developing New Requirements for Public Notice of CSO Events in the Great Lakes Basin

Section 425 requires EPA to work with the Great Lakes states to create public notice requirements for combined sewer overflow discharges to the Great Lakes. Section 425(b)(2) provides that the notice requirements are to address the method of the notice, the contents of the notice, and requirements for public availability of the notice. Section 425(b)(3)(A) provides that at a minimum, the contents of the notice are to include the dates and times of the applicable discharge; the volume of the discharge; and a description of any public access areas impacted by the discharge. Section 425(b)(3)(B) provides that the minimum content requirements are to be consistent for all affected States.

Section 425(b)(4)(A) calls for follow-up notice requirements that provide a description of each applicable discharge; the cause of the discharge; and plans to prevent a reoccurrence of a combined sewer overflow discharge to the Great Lakes consistent with section 402 of the Federal Water Pollution Control Act (33 U.S.C. 1342) or an administrative order or consent decree under such Act. Section 425(b)(4)(B) provides for annual publication requirements that list each treatment works from which the Administrator or the affected State receive a follow-up notice.

Section 425(b)(5) requires that the notice and publication requirements described in Section 425 shall be implemented by not later than December 18, 2017. However, the Administrator of the EPA may extend the implementation deadline for individual communities if the Administrator determines the community needs additional time to comply in order to avoid undue economic hardship. Finally, Section 425(b)(6) clarifies that “Nothing in this subsection prohibits an affected State from establishing a State notice requirement in the event of a discharge that is more stringent than the requirements described in this subsection.”

EPA is working with the Great Lakes States to identify and evaluate options for implementing Section 425. EPA has also met with various stakeholder groups that represent municipalities, industry practitioners, and environmental organizations to hear each of their perspectives. EPA will continue to meet with interested stakeholder groups throughout the rulemaking process. In addition, the public “listening session” on September 14, 2016 will provide stakeholders and other members of the public with an opportunity to share their views regarding potential new public notification requirements for CSOs in the Great Lakes Basin.

III. Input on Public Notice Considerations

EPA and the Great Lake States will consider several options for creating public notice requirements for CSOs in the Great Lakes Basin under Section 425. In general, EPA and the Great Lake States are requesting comment on public notice requirements that provide for:

• Immediate notice of CSO discharge events to local public health officials and drinking water facilities. This notice is intended to alert public health officials and drinking water facilities to specific CSO discharges and support the development of appropriate responses to the discharges.

• Immediate notice of CSO discharge events to the public via text alerts, Web site notice, or other appropriate means. This notice is intended to alert the public to CSO discharges which may allow them to take steps to reduce their potential exposure to pathogens associated with the discharges.

• Immediate notice of CSO discharge events to the NPDES permitting authority. NPDES permits establish requirements to report CSO discharges to the NPDES authority. 40 CFR 122.41(l)(6) provides minimum requirements to report certain CSO discharges to the NPDES authority within 24 hours.

• Annual CSO notice. The annual CSO notice is intended to provide the public with a description of the current performance of their system as well as progress being made to reduce CSOs.

EPA solicits information from the public regarding any aspect of Section 425 of the Consolidated Appropriations Act of 2016, including:

(1) What means of receiving immediate notice of CSO discharge events is most helpful to the public?

(2) What should “immediate” mean in this context? How soon after a CSO discharge event commences should the public and local public health agencies be given notice?

(3) What type of information would be most appropriate for immediate notices? In addition to the statutorily required elements of (i) the dates and times of the applicable discharge; (ii) the volume of the discharge; and (iii) a description of any public access areas impacted by the discharge; what other pieces of information would be beneficial for the public, local public health agencies, public drinking water providers, etc. to receive as part of the public notice?

(4) What role should local public health agencies have in identifying immediate notification requirements?

(5) How should annual notices be made available to the public?

(6) What information should be included in annual notices and who should prepare the annual notices?

(7) Do EPA's requirements to notify NPDES permitting authorities under 40 CFR 122.41(l)(4), (6) and (7) have a role in the new public notice requirements?

(8) What regulatory framework is most appropriate for immediate notification requirements? For annual notices?

In addition to participation in the meeting, members of the public may share input through written comments to the public docket (see ADDRESSES).

Dated: July 26, 2016.
Andrew D. Sawyers,
Director, Office of Wastewater Management.

[FR Doc. 2016-18133 Filed 7-29-16; 8:45 am]

BILLING CODE 6560-50-P